PEACE CORPS

22 CFR Part 303

RIN 0420-AA31

Procedures for Disclosure of Information Under the Freedom of Information Act; Correction

AGENCY: The Peace Corps.

ACTION: Final rule; correction.

SUMMARY: The Peace Corps is correcting a final rule that appeared in the Federal Register on April 11, 2024. This final rule amends the regulations that the Peace Corps follows in processing requests under the Freedom of Information Act (FOIA) to comply with the FOIA Improvement Act of 2016. These amendments clarify and update procedures for requesting information from the Peace Corps and procedures that the Peace Corps follows in responding to requests from the public for information.

DATES: Effective May 13, 2024.

FOR FURTHER INFORMATION CONTACT: David van Hoogstraten, 202-692-2150, policy@peacecorps.gov.

SUPPLEMENTARY INFORMATION: In FR Doc. 2024-06800, appearing on page 25519 in the Federal Register on Thursday, April 11, 2024, the following corrections are made:

§§ 303.11 and 303.12 [Corrected]

1. On page 25525, in the third column, in part 303, in amendment 12, the instruction “Redesignate §§ 303.11 and 303.12 as §§ 303.13 and 303.14, respectively” is corrected to read “Redesignate §§ 303.11 and 303.12 as §§ 303.12 and 303.13, respectively.”

Dated: May 6, 2024.
James Olin,
FOIA and Privacy Officer.

[FR Doc. 2024-10181 Filed 5-9-24; 8:45 am]

BILLING CODE 6051-01-P